DEPARTMENT OF ENERGY

Federal Energy Regulatory Commission

[Docket Nos. CP16-22-000; CP16-23-000; CP16-24-000; CP16-102-000]

NEXUS Gas Transmission, LLC; Texas Eastern Transmission, LP; DTE Gas Company; Vector Pipeline L.P.; Notice of Availability of the Final Environmental Impact Statement for the Proposed Nexus Gas Transmission Project and Texas Eastern Appalachian Lease Project

The staff of the Federal Energy Regulatory Commission (FERC or Commission) has prepared a final environmental impact statement (EIS) for the NEXUS Gas Transmission (NGT) Project and Texas Eastern Appalachian Lease (TEAL) Project (jointly referred to as “Projects”), proposed by NEXUS Gas Transmission, LLC (NEXUS) and Texas Eastern Transmission, LP (Texas Eastern) in the above-referenced dockets. NEXUS and Texas Eastern request authorization to construct a new greenfield pipeline and expand an existing pipeline system from the Appalachian Basin to deliver 1.5 million dekatherms per day to consuming markets in northern Ohio, southeastern Michigan, and Ontario, Canada. DTE Gas Company and Vector Pipeline L.P. are requesting approval to lease capacity on their systems to NEXUS.

The final EIS assesses the potential environmental effects of the construction and operation of the Projects in accordance with the requirements of the National Environmental Policy Act. The FERC staff concludes that approval of the Projects would result in some adverse environmental impacts; however, these impacts would be reduced to acceptable levels with the implementation of NEXUS' and Texas Eastern's proposed mitigation measures and the additional measures recommended by staff in the final EIS.

The U.S. Fish and Wildlife Service (FWS), the U.S. Army Corps of Engineers (COE), and the U.S. Environmental Protection Agency (EPA) participated as cooperating agencies in the preparation of the final EIS. Cooperating agencies have jurisdiction by law or special expertise with respect to resources potentially affected by the proposal and participate in the National Environmental Policy Act analysis. Although the FWS, COE, and EPA provided input to the conclusions and recommendations presented in the final EIS, these agencies will each present their own conclusions and recommendations in their respective record of decision or determination for the Projects.

The final EIS addresses the potential environmental effects of the construction and operation of both the NGT and TEAL Projects. The NGT Project consists of about 256.6 miles of pipeline composed of the following facilities:

• 209.8 miles of new 36-inch-diameter natural gas pipeline in Ohio;

• 46.8 miles of new 36-inch-diameter natural gas pipeline in Michigan;

• associated equipment and facilities.

The TEAL Project would include two main components:

• 4.4 miles of new 36-inch-diameter loop pipeline in Ohio;

• 0.3 mile of new 30-inch-diameter interconnecting pipeline Ohio; and

• associated equipment and facilities.

The Projects' proposed aboveground facilities include five new compressor stations in Ohio; additional compression and related modifications to one existing compressor station in Ohio; five new metering and regulating stations in Ohio; one new metering and regulating station in Michigan; and minor modifications at existing aboveground facilities at various locations across Ohio.

The FERC staff mailed copies of the final EIS to federal, state, and local government representatives and agencies; elected officials; environmental and public interest groups; Native American tribes; potentially affected landowners and other interested individuals and groups; and newspapers and libraries near the Projects. Paper copy versions of this final EIS were mailed to those specifically requesting them; all others received a CD version. In addition, the final EIS is available for public viewing on the FERC's Web site (www.ferc.gov) using the eLibrary link. A limited number of copies are available for distribution and public inspection at: Federal Energy Regulatory Commission, Public Reference Room, 888 First Street NE., Room 2A, Washington, DC 20426, (202) 502-8371.

Additional information about the Projects is available from the Commission's Office of External Affairs, at (866) 208-FERC, or on the FERC Web site (www.ferc.gov) using the eLibrary link. Click on the eLibrary link, click on “General Search,” and enter the docket number excluding the last three digits in the Docket Number field (i.e., CP16-22). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp to subscribe.

Dated: November 30, 2016.
Kimberly D. Bose,
Secretary.

[FR Doc. 2016-29219 Filed 12-5-16; 8:45 am]

BILLING CODE 6717-01-P